DEPARTMENT OF DEFENSE

Office of the Secretary

Federal Advisory Committee; Defense Business Board (DBB); Correction

AGENCY: Department of Defense (DoD).

ACTION: Meeting notice; correction.

SUMMARY: On June 21, 2010, the Department of Defense (DoD) published a notice in the Federal Register (75 FR 34987), announcing a meeting of the Defense Business Board (DBB) on July 22, 2010, at the Pentagon Conference Center, Room B-6. This document corrects the June 21 notice by changing the meeting location from the Pentagon Conference Center, Room B-6, to the Pentagon, Room 3D557. The date and time that were announced in the June 21 meeting notice are correct.

Although the meeting is open to the public, an escort is required. Further details are provided in the June 21 meeting notice.

DATES: The meeting will be held on Thursday, July 22, 2010, from 9 a.m. to 9:45 a.m.

ADDRESSES: The meeting will be held at the Pentagon, Room 3D557, Washington, DC (escort required, see below).

FOR FURTHER INFORMATION CONTACT: For meeting information please contact Ms. Debora Duffy, Defense Business Board, 1155 Defense Pentagon, Room 5B-1088A, Washington, DC 20301-1155, Debora.Duffy@osd.mil, (703) 697-2168. The Board's Designated Federal Officer (DFO) is Ms. Phyllis Ferguson, Defense Business Board, 1155 Defense Pentagon, Room 5B-1088A, Washington, DC 20301-1155, Phyllis.Ferguson@osd.mil, (703) 695-7563.

SUPPLEMENTARY INFORMATION: See the June 21, 2010, Federal Register meeting notice for information concerning public accessibility, the meeting agenda, and procedures for providing public comments.

Correction

In the Federal Register of June 21, 2010, in FR Doc. 2010-14871, beginning on page 34987, make the following correction:

On page 34987, in the third column, correct the ADDRESSES caption to read:

ADDRESSES: The meeting will be held at the Pentagon, Room 3D557, Washington, DC (escort required, see below).

Dated: July 8, 2010.
Mitchell S. Bryman,
Alternate OSD Federal Register Liaison Officer, Department of Defense.

[FR Doc. 2010-17011 Filed 7-12-10; 8:45 am]

BILLING CODE 5001-06-P